DEPARTMENT OF ENERGY

Federal Energy Regulatory Commission

Combined Notice of Filings #1

October 3, 2007.

Take notice that the Commission has received the following Natural Gas Pipeline Rate and Refund Report filings:

Docket Numbers: RP93-162-019, CP88-391-039.

Applicants: Transcontinental Gas Pipe Line Corporation.

Description: Transcontinental Gas Pipe Line Corporation submits its cash-out report for the annual period 8/1/06 through 7/31/07 and its report of cash-out refunds for the Annual Period, etc.

Filed Date: 09/27/2007.

Accession Number: 20071001-0023.

Comment Date: 5 p.m. Eastern Time on Tuesday, October 9, 2007.

Docket Numbers: RP99-513-042.

Applicants: Questar Pipeline Company.

Description: Questar Pipeline Company submits Forty-Second Revised Sheet 7, et al. to FERC Gas Tariff, First Revised Volume 1, effective 11/1/07.

Filed Date: 09/27/2007.

Accession Number: 20070927-0173.

Comment Date: 5 p.m. Eastern Time on Tuesday, October 9, 2007.

Docket Numbers: RP00-70-015.

Applicants: Algonquin Gas Transmission Company.

Description: Algonquin Gas Transmission, LLC submits Original Sheet 85, et al. to its FERC Gas Tariff, Fifth Revised Volume 1.

Filed Date: 10/01/2007.

Accession Number: 20071002-0092.

Comment Date: 5 p.m. Eastern Time on Monday, October 15, 2007.

Docket Numbers: RP07-725-000.

Applicants: Maritimes & Northeast Pipeline, LLC.

Description: Maritimes & Northeast Pipeline, LLC submits the corrected Appendix D, Scheduling A, Page 1 of 2 to its annual fuel retainage quantity filing submitted on 9/28/07.

Filed Date: 10/01/2007.

Accession Number: 20071002-0076.

Comment Date: 5 p.m. Eastern Time on Monday, October 15, 2007.

Docket Numbers: RP08-11-000.

Applicants: Hardy Storage Company, LLC.

Description: Hardy Storage Company, LLC submits first Annual Retainage Adjustment Mechanism Filing pursuant to FERC Gas Tariff, Original Volume 1.

Filed Date: 10/01/2007.

Accession Number: 20071002-0066.

Comment Date: 5 p.m. Eastern Time on Monday, October 15, 2007.

Docket Numbers: RP08-12-000.

Applicants: Columbia Gulf Transmission Company.

Description: Columbia Gulf Transmission Company submits their Forty-fourth Revised Sheet 18, et al. to FERC Gas Tariff, Second Revised Volume 1, proposed to be effective 11/1/07.

Filed Date: 10/01/2007.

Accession Number: 20071002-0067.

Comment Date: 5 p.m. Eastern Time on Monday, October 15, 2007.

Docket Numbers: RP08-13-000.

Applicants: ANR Pipeline Company.

Description: ANR Pipeline Company submits its Fourth Revised Sheet 0, et al. to its FERC Gas Tariff, Second Revised Volume No 1.

Filed Date: 10/01/2007.

Accession Number: 20071002-0091.

Comment Date: 5 p.m. Eastern Time on Monday, October 15, 2007.

Docket Numbers: RP08-14-000.

Applicants: Texas Eastern Transmission, LP.

Description: Texas Eastern Transmission, LP submits a filing for approval to convert an individually certificated storage service that provides to Public Service Electric & Gas Co., etc.

Filed Date: 10/01/2007.

Accession Number: 20071002-0093.

Comment Date: 5 p.m. Eastern Time on Monday, October 15, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-19867 Filed 10-9-07; 8:45 am]

BILLING CODE 6717-01-P